DEPARTMENT OF TRANSPORTATION

Federal Motor Carrier Safety Administration

[Docket No. FMCSA-2003-15015]

Policy on Availability of Information From the Commercial Driver's License Information System

AGENCY: Federal Motor Carrier Safety Administration (FMCSA), DOT.

ACTION: Notice of policy.

SUMMARY: As required by the Transportation Equity Act for the 21st Century (TEA-21), this document informs the public of FMCSA's policy regarding access to information in the Commercial Driver's License Information System (CDLIS) by other Federal agencies.

EFFECTIVE DATE: This policy is effective January 13, 2005.

FOR FURTHER INFORMATION CONTACT: Carol Gore, (202) 366-4013, Office of Safety Programs, Federal Motor Carrier Safety Administration, Department of Transportation, 400 Seventh Street, SW., Washington, DC 20590.

SUPPLEMENTARY INFORMATION: Section 12007(e) of the Commercial Motor Vehicle Safety Act (CMVSA) of 1986 (Pub. L. 99-570) specified four entities authorized to access information from CDLIS. These entities were the Secretary of Transportation, the States, an employer or prospective employer of a person who operates a commercial motor vehicle (CMV), and a person who operates a CMV for an employer that owns or leases a CMV or assigns employees to operate a CMV (49 U.S.C. § 31309(e)). This provision remained in effect until Congress passed TEA-21 (Pub. L. 105-85) and revised the access provision through sections 4004(a) and 4011(d) (5) (codified at 49 U.S.C. 31106(e) and 31309(c), respectively). Sections 4004(a) and 4011(d)(5) of TEA-21 expanded CDLIS access by requiring the Secretary of Transportation to develop a policy on making information available from CDLIS. The policy must conform to existing Federal information laws and regulations.

Privacy Act Applicability

The Privacy Act of 1974 (Pub. L. 93-579, as amended) regulates Federal information system practices regarding the collection, maintenance, dissemination and use of records by Federal executive branch agencies. CDLIS is not a Federal “system of records,” as defined by the Privacy Act because the records in CDLIS are not controlled by FMCSA. Federal agencies obtaining access to CDLIS records may be subject to the Privacy Act, if they establish a system of records with the information obtained from CDLIS. Such agencies may also need to provide a process for review and correction of those records.

Availability of Information From CDLIS

Section 12007(c) of the CMVSA directed the Secretary to establish an information system, now known as CDLIS, to exchange commercial driver licensing information among all the States. CDLIS includes the databases of fifty-one licensing jurisdictions and the CDLIS Central Site, all connected by a telecommunications network.

The CDL program was designed based on these fundamental principles—that no person who operates a commercial motor vehicle shall at any time have more than one driver's license, that one license shall contain that person's complete driving record, and that the licensing State shall be notified of any convictions of violations of any motor vehicle control laws in any other State. CDLIS supports these principles by providing the Central Site, the telecommunications network, and the operating protocols States need to exchange commercial license, conviction and safety information on individual CDL drivers. Drivers who wish to review and, if necessary, correct information about them in CDLIS must contact the State agency that issued their license.

FMCSA Policy on Availability of Information From CDLIS

It is FMCSA's policy that another Federal agency may request access to information in CDLIS by written submission to FMCSA's Chief Safety Officer. In the request, the applicant must state the legal basis and the need for access to CDLIS. A Federal agency will be required to execute a Memorandum of Understanding (MOU) with the Department of Transportation and/or FMCSA before access to CDLIS data will be provided.

Issued on: January 7, 2005.
Annette M. Sandberg,
Administrator.

[FR Doc. 05-669 Filed 1-12-05; 8:45 am]

BILLING CODE 4910-EX-P